DEPARTMENT OF LABOR

Office of Workers' Compensation Programs

Advisory Board on Toxic Substances and Worker Health

AGENCY: Office of Workers' Compensation Programs, Labor.

ACTION: Notice of charter renewal.

SUMMARY: The Secretary of Labor (Secretary) has approved the renewal of the charter of the Advisory Board on Toxic Substances and Worker Health (Board). The renewed charter will expire two years from its filing date or until the Board terminates, whichever occurs first.

FOR FURTHER INFORMATION CONTACT: You may contact Douglas Pennington, Acting

Director, OWCP at pennington.douglas@dol.gov, or Carrie Rhoads, Alternate Designated Federal Officer, at rhoads.carrie@dol.gov, U.S. Department of Labor, 200 Constitution Avenue NW, Suite S-3524, Washington, DC 20210, telephone (202) 343-5580. This is not a toll-free number.

SUPPLEMENTARY INFORMATION: In accordance with section 3687 of Public Law 106-398, which was added by section 3141(a) of the National Defense Authorization Act (NDAA) of 2015, Executive Order 13699 (June 26, 2015), and the provisions of the Federal Advisory Committee Act (FACA), as amended (5 U.S.C. 10) and its implementing regulations issued by the General Services Administration (GSA), the Board was established on July 2, 2015. The current charter expires on June 25, 2023. Pursuant to FACA, Section 14(b)(2), the Secretary will renew the charter biennially, which allows the Board to continue its operations. The Board advises the Secretary with respect to: (1) the Site Exposure Matrices (SEM) of the Department of Labor; (2) medical guidance for claims examiners for claims with the EEOICPA program, with respect to the weighing of the medical evidence of claimants; (3) evidentiary requirements for claims under Part B of EEOICPA related to lung disease; (4) the work of industrial hygienists and staff physicians and consulting physicians of the Department of Labor and reports of such hygienists and physicians to ensure quality, objectivity, and consistency; (5) the claims adjudication process generally, including review of procedure manual changes prior to incorporation into the manual and claims for medical benefits; and (6) such other matters as the Secretary considers appropriate. The Board, when necessary, coordinates exchanges of data and findings with the Department of Health and Human Services' Advisory Board on Radiation and Worker Health.

The Secretary appoints 12 to 15 Board members, one of whom the Secretary appoints as Chair. In accordance with Section 3687(a)(2), Board appointments are made in consultation with organizations with expertise on worker health issues to ensure that membership reflects a proper balance of perspectives from the scientific, medical, and claimant communities, and to address the tasks assigned to the Board. Members serve two-year terms. At the discretion of the Secretary, they may be appointed to successive terms or removed at any time.

The Board meets no less than twice per year and reports to the Secretary. As specified in Section 3687(i), the Board will terminate fifteen (15) years after the date of the enactment of the NDAA, which was December 19, 2014. Thus, the Board will terminate on December 19, 2029.

Electronic copies of this Federal Register notice are available at http://www.regulations.gov. This notice, as well as the Board charter, news releases, and other relevant information, are available on the Board's web page at http://www.dol.gov/owcp/energy/regs/compliance/AdvisoryBoard.htm.

Signed at Washington, DC, this 10th day of June, 2025.
Douglas Pennington,
Acting Director, Office of Workers' Compensation Programs.

[FR Doc. 2025-11348 Filed 6-18-25; 8:45 am]

BILLING CODE 4510-CR-P